DEPARTMENT OF THE INTERIOR

Office of the Secretary

[223D0102DM, DS6CS00000, DLSN00000.000000, DX.6CS25]

Notice of Senior Executive Service Performance Review Board Appointments

AGENCY: Office of the Secretary, Interior.

ACTION: Notice of appointments.

SUMMARY: This notice provides the names of individuals appointed to serve on the Department of the Interior Senior Executive Service (SES) Performance Review Board.

DATES: These appointments take effect upon publication in the Federal Register.

FOR FURTHER INFORMATION CONTACT: To request additional information about this notice, contact Raymond Limon, Deputy Assistant Secretary—Human Capital and Diversity/Chief Human Capital Officer, by email at Raymond_Limon@ios.doi.gov, or by telephone at (202) 208-3100.

SUPPLEMENTARY INFORMATION: The individuals appointed to serve on the Department of the Interior SES Performance Review Board are as follows:

ANDERSON, JAMES

CONANT, ERNEST

MATRAGRANO, KAREN

MIRANDA-CASTRO, LEOPOLDO

OWENS, GLENDA

POITRA, TAMMIE

SHOLLY, CAMERON

SHOPE, THOMAS

SUAZO, RAYMOND

TUCKER, KAPRICE

TUPPER, MICHAEL

WEBER, WENDI

Authority: Title 5, U.S. Code, 4314.

Raymond Limon,
Deputy Assistant Secretary—Human Capital and Diversity Chief Human Capital Officer.

[FR Doc. 2021-27293 Filed 12-16-21; 8:45 am]

BILLING CODE 4334-63-P